DEPARTMENT OF COMMERCE

International Trade Administration

C-489-806

Certain Pasta From Turkey: Final Results of Countervailing Duty Changed Circumstances Review

AGENCY: Import Administration, International Trade Administration, Department of Commerce.

SUMMARY: On January 28, 2009, the Department of Commerce (“the Department”) published a notice of initiation of a changed circumstances review (“CCR”) of the countervailing duty (“CVD”) order on certain pasta from Turkey as requested by Marsan Gida Sanayi ve Ticret A.S. (“Marsan”). See Notice of Initiation of Countervailing Duty Changed Circumstances Review: Certain Pasta from Turkey, 74 FR 4938 (January 28, 2009) (“Initiation Notice”). On September 15, 2009, we published our preliminary results of the CVD CCR. See Certain Pasta From Turkey: Preliminary Results of Countervailing Duty Changed Circumstances Review, 74 FR 47225 (September 15, 2009) (“Preliminary Results”). Pursuant to the new criteria outlined in the Preliminary Results, we preliminarily found that Marsan is not the successor to Gidasa Sabanci Gida Sanayi ve Ticaret A.S. (“Gidasa”) for purposes of the CVD cash deposit rates. We invited interested parties to comment on these preliminary results and we received comments from Marsan. For the final results, we continue to find that Marsan is not the successor to Gidasa, for purposes of the CVD cash deposit rates, and therefore its merchandise should continue to enter under the “all others” cash deposit rate.

EFFECTIVE DATE: October 21, 2009.

FOR FURTHER INFORMATION CONTACT: Shelly Atkinson, or Brandon Farlander, AD/CVD Operations, Office 1, Import Administration, International Trade Administration, U.S. Department of Commerce, 1401 Constitution Avenue, NW, Washington, DC 20230; telephone: (202) 482-0116 or (202) 482-0182, respectively.

SUPPLEMENTARY INFORMATION:

Background

On July 24, 1996, the Department published in the Federal Register the order on certain pasta from Turkey. See Notice of Countervailing Duty Order: Certain Pasta (“Pasta”) From Turkey, 61 FR 38546 (July 24, 1996). On December 3, 2008, Marsan requested that the Department initiate and conduct expedited CCRs to determine that, for purposes of the antidumping duty (“AD”) and CVD cash deposit rates, Marsan is the successor to Gidasa. See Marsan's December 3, 2008, submission entitled, “Pasta from Turkey: Request for Expedited Changed Circumstances Review of AD/CVD Orders” (“CCR Request”). On January 28, 2009, the Department published a notice of initiation of a CCR of the CVD order for Marsan. See Initiation Notice. On April 16, 2009, the Department requested additional information and issued a questionnaire to Marsan, to which it responded on May 1, 2009. See Marsan's May 1, 2009, response entitled, “Pasta from Turkey: Marsan response to the supplemental questionnaire.”

On April 14, 2009, and June 2, 2009, the Department published its preliminary and final results, respectively, for the CCR of the AD order on certain pasta from Turkey and found that Marsan was the successor-in-interest to Gidasa for AD cash deposit purposes. See Certain Pasta from Turkey: Notice of Preliminary Results of Antidumping Duty Changed Circumstances Review, 74 FR 17153 (April 14, 2009); Certain Pasta from Turkey: Notice of Final Results of Antidumping Duty Changed Circumstances Review, 74 FR 26373 (June 2, 2009). On September 15, 2009, the Department published the preliminary results of the CVD CCR of the CVD order on pasta from Turkey and preliminarily found that, based on the Department's new methodology and criteria to analyze successorship claims in CVD CCRs, Marsan was not the successor to Gidasa, for purposes of the CVD cash deposit rate, and therefore its merchandise should continue to enter under the “all others” cash deposit rate. See Preliminary Results. We invited parties to comment on our preliminary results and received comments from Marsan on September 24, 2009. We did not receive any rebuttal comments.

Scope of Review

Imports covered by this review are shipments of certain non-egg dry pasta in packages of five pounds (2.27 kilograms) or less, whether or not enriched or fortified or containing milk or other optional ingredients such as chopped vegetables, vegetable purees, milk, gluten, diastases, vitamins, coloring and flavorings, and up to two percent egg white. The pasta covered by this scope is typically sold in the retail market, in fiberboard or cardboard cartons, or polyethylene or polypropylene bags of varying dimensions.

Excluded from the scope of this review are refrigerated, frozen, or canned pastas, as well as all forms of egg pasta, with the exception of non-egg dry pasta containing up to two percent egg white.

The merchandise subject to review is currently classifiable under item 1902.19.20 of the Harmonized Tariff Schedule of the United States (“HTSUS”). Although the HTSUS subheading is provided for convenience and customs purposes, the written description of the merchandise subject to the order is dispositive.

Final Results of Changed Circumstances Review

For the final results, we are hereby adopting our methodology and findings from the Preliminary Results. We continue to find that Marsan's merchandise is not entitled to enter under the CVD cash deposit rate previously established in the last CVD administrative review of Gidasa. Accordingly, we determine that Marsan's merchandise should continue to enter under the “all others” CVD cash deposit rate of 9.38 percent.

All issues raised in the case brief filed by Marsan are addressed in the Issues and Decision Memorandum for the Final Results of the Countervailing Duty Changed Circumstances Review on Certain Pasta from Turkey (“Issues and Decision Memorandum”), which is dated concurrently with and hereby adopted by this notice. Attached to this notice as an appendix is a list of the issues which the interested party raised and to which we have responded in the Issues and Decision Memorandum. Parties can find a complete discussion of all issues raised in this review and the corresponding recommendations in this public memorandum, which is on file in the Department's Central Records Unit in Room 1117 of the main Department building. In addition, a complete version of the Issues and Decision Memorandum can be accessed directly on the Web at http://ia.ita.doc.gov/frn/index.html. The paper copy and electronic version of the Issues and Decision Memorandum are identical in content.

Notification

This notice serves as a final reminder to parties to administrative protective orders (“APO's) of their responsibility concerning the disposition of proprietary information disclosed under APO in accordance with 19 CFR 351.305(a)(3). Failure to timely notify the Department in writing of the return/destruction of APO material is a sanctionable violation.

We are issuing and publishing these results and notice in accordance with sections 751(b)(1) and 777(i)(1) and (2) of the Act and 19 CFR 351.216.

Dated: October 13, 2009.
Ronald K. Lorentzen,
Acting Assistant Secretary for Import Administration.

APPENDIX

List of Comments and Issues in the Issues and Decision Memorandum

Comment 1: Whether the Facts of the Case Warrant a Finding of Successorship

Comment 2: Whether Marsan was Denied Procedural Due Process

Comment 3: Whether the Department's New Policy Furthers the Goals of the Statute

[FR Doc. E9-25344 Filed 10-20-09; 8:45 am]

BILLING CODE 3510-DS-S